DEPARTMENT OF EDUCATION

[CFDA No. 84.274A]

Office of Postsecondary Education; American Overseas Research Centers Program; Notice Inviting Applications for New Awards for Fiscal Year (FY) 2003

Purpose of Program: The American Overseas Research Centers (AORC) Program makes awards to any American overseas research center that is a consortium of United States institutions of higher education to enable the center to promote postgraduate research, exchanges, and area studies. AORC awards may be used to pay all or a portion of the cost of establishing or operating a center or program, including the cost of operation and maintenance of overseas facilities; the cost of organizing and managing conferences; the cost of teaching and research materials; the cost of acquisition, maintenance, and preservation of library collections; the cost of bringing visiting scholars and faculty to the center to teach or to conduct research; the cost of faculty and staff stipends and salaries; the cost of faculty, staff, and student travel; and, the cost of publication and dissemination of material for the scholarly and general public.

For FY 2003 the competition for new awards focuses on projects designed to meet the priorities described in the Priorities section of this application notice.

Eligible Applicants: Centers that (1) receive more than 50 percent of their funding from public or private United States sources; (2) have a permanent presence in the country in which the center is located; and (3) are organizations described in section 501(c)(3) of the Internal Revenue Code of 1986, which are exempt from taxation under section 501(a) of the Code.

Applications Available: October 11, 2002.

Deadline for Transmittal of Applications: November 15, 2002.

Deadline for Intergovernmental Review: January 14, 2003.

Estimated Available Funds: The Administration has requested $1,000,000 for this program for FY 2003. The actual level of funding, if any, depends on final congressional action. However, we are inviting applications to allow enough time to complete the grant process, if Congress appropriates funds for this program.

Estimated Range of Awards: $38,378—$126,509.

Estimated Average Size of Awards: $76,923 per year.

Estimated Number of Awards: 13.

Note: The Department is not bound by any estimates in this notice.

Project Period: 48 months.

Page Limit: The application narrative is where you, the applicant, address the selection criteria that reviewers use to evaluate your application. You must limit the narrative to the equivalent of no more than 25 pages, using the following standards:

• A “page” is 8.5″ x 11″, on one side only, with 1″ margins at the top, bottom, and both sides.

• Double space (no more than three lines per vertical inch) all text in the application narrative, including titles, headings, footnotes, quotations, references, and captions. However, you may single space all text in charts, tables, figures and graphs.

• Use a font that is either 12-point or larger or no smaller than 10 pitch (characters per inch). However you may use a 10-point font in charts, tables, figures, and graphs.

The page limit does not apply to the cover sheet; the budget section, including the narrative budget justification; the assurances and certifications; or the one-page abstract or the appendices. However, you must include all of the application narrative in responding to the selection criteria.

We will reject your application if—

• You apply these standards and exceed the page limit; or

• You apply other standards and exceed the equivalent of the page limit.

Applicable Regulations: (a) The Education Department General Administrative Regulations (EDGAR) in 34 CFR parts 74, 75, 77, 79, 80, 81, 82, 85, 86, 97, 98, and 99.

Note: The AORC Program does not have program specific regulations; therefore, applicants are directed to the authorizing statute, section 609 of part A, title VI of the Higher Education Act of 1965, as amended.

Priorities

Invitational Priority

We are particularly interested in applications that meet the following priority.

Activities and programs designed to promote information sharing among U.S. researchers using the overseas centers.

Under 34 CFR 75.105(c)(1) we do not give an application that meets the priority a competitive or absolute preference over other applications.

Application Procedures

The Government Paperwork Elimination Act (GPEA) of 1998, (Pub. L. 105-277) and the Federal Financial Assistance Management Improvement Act of 1999, (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications for the FY 2003 AORC Program competition for new awards be submitted electronically using e-APPLICATION available through the Education Department's e-GRANTS system. The e-GRANTS system is accessible through its portal page at: http://e-grants.ed.gov.

Applicants who are unable to submit an application through the e-GRANTS system may apply for a waiver to the electronic submission requirement. To apply for a waiver, applicants must explain the reason(s) that prevent them from using the Internet to submit their applications. The reason(s) must be outlined in a letter addressed to Cheryl E. Gibbs, U.S. Department of Education, 1990 K Street, NW., Suite 6000, Washington, DC 20006-8521. Please submit your letter no later than two weeks before the deadline for transmittal of applications.

Any application that receives a waiver to the electronic submission requirement will be given the same consideration in the review process as an electronic application.

Waiver of Proposed Rulemaking

Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project of electronic submission of applications to include additional formula grant programs and additional discretionary grant competitions. The AORC Program (CFDA 84.274A) is one of the programs included in the pilot project. If you are an applicant under the AORC Program, you must submit your application to us in electronic format or receive a waiver.

The pilot project involves the use of the Electronic Grant Application System (e-APPLICATION, formerly e-GAPS) portion of the Grant Administrative and Payment System (GAPS). We shall continue to evaluate its success and solicit suggestions for improvement.

Please note the following:

• Do not wait until the deadline date for the transmittal of applications to submit your application electronically. If you wait until the deadline date to submit your application electronically and you are unable to access the e-APPLICATION system, you must contact the Help Desk by 4:30 p.m. Washington, DC time on the deadline date.

• Keep in mind that e-APPLICATION is not operational 24 hours a day 7 days a week. Click on Hours of Web Site Operation for specific hours of access during the week.

• You will have access to the e-APPLICATION Help Desk for technical support: 1-888-336-8930 (TTY: 1-866-697-2696, local 202-401-8363). The Help Desk hours of operation are limited to: 8 a.m.-6 p.m. Washington DC time Monday-Friday.

• You can submit all documents electronically, including the Application for Federal Assistance (ED 424 Standard Face Sheet), Budget Information-Non-Construction Programs (ED 524), and all necessary assurances and certifications.

• Within three working days of submitting your electronic application, fax a signed copy of the Application for Federal Assistance (ED 424 Standard Face Sheet) to the Application Control Center after following these steps:

1. Print ED 424 from the e-APPLICATION system.

2. Make sure that the applicant's Authorized Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the AORC Program at: http://e-grants.ed.gov.

We have included additional information about the e-APPLICATION pilot project (see Parity Guidelines between Paper and Electronic Applications) in the application package.

FOR FURTHER INFORMATION CONTACT: Cheryl E. Gibbs, International Education and Graduate Programs Service, U.S. Department of Education, 1990 K Street, NW., Suite 6000, Washington, DC 20006-8521. Telephone: (202) 502-7634 or via Internet: cheryl.gibbs@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

You may also view this document in PDF at the following site: http://www.ed.gov/offices/OPE/HEP/iegps/.

Note: The official version of this document is the document published in the Federal Register. Free Internet access to the official edition of the Federal Register and the Code of Federal Regulations is available on GPO Access at: http://www.access.gpo.gov/nara/index.html.

Program Authority: 20 U.S.C. 1128a.

Dated: September 23, 2002.
Sally L. Stroup,
Assistant Secretary, Office of Postsecondary Education.

[FR Doc. 02-24434 Filed 9-25-02; 8:45 am]

BILLING CODE 4000-01-P